DEPARTMENT OF AGRICULTURE

Rural Business-Cooperative Service

Notice of Funds Availability (NOFA) Inviting Applications for Rural Cooperative Development Grants

AGENCY: Rural Business-Cooperative Service, USDA.

ACTION: Notice.

SUMMARY: The Rural Business-Cooperative Service (RBS) announces the availability of approximately $6.5 million in competing Rural Cooperative Development Grant (RCDG) funds for fiscal year (FY) 2003. Of this amount, approximately $1.5 million will be reserved for applications that focus on assistance to small, minority producers through their cooperative businesses. This action will comply with legislation which authorizes grants for establishing and operating centers for rural cooperative development. The intended effect of this notice is to solicit applications for FY 2003 and award grants before September 1, 2003.

DATES: The deadline for receipt of an application is June 27, 2003. Applications received after that date will not be considered. Applications should be sent to the Rural Development State offices. State offices will forward the applications to the National office by July 14, 2003.

ADDRESSES: Entities wishing to apply for assistance should contact their USDA Rural Development State Office to receive further information and copies of the application package. A list of state offices is provided at the end of this Notice.

FOR FURTHER INFORMATION CONTACT: Inquiries are directed to the applicable USDA Rural Development State Office. Information is also available on the RBS Web site at www.rurdev.usda.gov/rbs/coops/rcdg.htm. You may also contact Marc Warman, Program Leader, Cooperative Services, Rural Business-Cooperative Service, U.S. Department of Agriculture, Stop 3250, Room 4016, South Agriculture Building, 1400 Independence Avenue, SW., Washington, DC 20250-3250. Telephone (202) 690-1431.

SUPPLEMENTARY INFORMATION:

Paperwork Reduction Act

In accordance with the Paperwork Reduction Act of 1995, the information collection requirements continued in this regulation were previously approved by the Office of Management and Budget (OMB) and were assigned OMB control number 0570-0006.

General Information

Rural Cooperative Development Grants (RCDG) are authorized by section 310B(e) of the Consolidated Farm and Rural Development Act (7 U.S.C. 1932). Regulations are contained in 7 CFR part 4284, subpart F. The primary objective of the RCDG program is to improve the economic condition of rural areas through cooperative development. The program is administered through USDA Rural Development State Offices acting on behalf of RBS.

Section 310B(e) of the Consolidated Farm and Rural Development Act was amended by Public Law 107-171 (Mar 13, 2002) to modify the matching requirement required of RCDG grant applicants that are “1994 Institutions” (as defined in section 532 of the Equity in Educational Land-Grant Status Act of 1994 (7 U.S.C. 301 note; Pub. L. 103-382). 1994 Institutions are not required to provide non-Federal financial support (matching funds) greater than 5 percent of the grant awarded. In the case of all applicants, preference points will be awarded where applicants commit to providing greater than the minimum 25 percent matching contribution. A current list of 1994 Institutions may be obtained from RBS.

Grant Selection Criteria

Grants will be awarded on a competitive basis to nonprofit corporations and institutions of higher education based on the following selection criteria. The priorities described in this paragraph will be used by RBS to rate applications. RBS review of applications will include the complete application package submitted to the Rural Development State Office. Points will be ranked as compared with other applications on hand. Points will be awarded to each factor on a 5, 4, 3, 2, 1 basis depending on the applicant's ranking compared to other applicants. Each factor will receive equal weight.

Preference will be given to applications that:

(1) Demonstrate a proven track record in administering a nationally coordinated, regionally or State-wide operated project;

(2) Demonstrate previous expertise in providing technical assistance to cooperatives in rural areas;

(3) Demonstrate the ability to assist in the retention of business, facilitate the establishment of cooperatives and new cooperative approaches, and generate employment opportunities that will improve the economic conditions of rural areas;

(4) Demonstrate the ability to create horizontal linkages among cooperative businesses within and among various sectors in rural areas of the United States and vertical linkages to domestic and international markets;

(5) Commit to providing technical assistance and other services to underserved and economically distressed rural areas of the United States;

(6) Commit to providing greater than a 25 percent matching contribution (5 percent in the case of 1994 Institutions) with private funds and in-kind contributions;

(7) Demonstrate transferability or demonstration value to assist rural areas outside of project area; and

(8) Demonstrate that any cooperative development activity is consistent with positive environmental stewardship.

Fiscal Year 2003 Application Submission

Applications must include a clear statement of the goals and objectives of the project and a plan which describes the proposed project as required by the statute and 7 CFR part 4284, subpart F. Each application received in the State Office will be reviewed to determine if the application is consistent with the eligible purposes outlined in 7 CFR part 4284, subpart F. Applications without supportive data to address selection criteria will not be considered. All submissions must conform to the required standard Times New Roman, 12 point font.

Since the primary objective of the cooperative center concept is to provide technical assistance services, including feasibility analysis, applications that do not propose development or continuation of the cooperative center concept will not be considered. Also, applications that focus on assistance to only one cooperative within the project area will not be considered. To enhance the long-term viability of cooperative development centers, strengthening of technical assistance capacity within new and existing centers is strongly encouraged.

Copies of 7 CFR part 4284, subpart F, will be provided to any interested applicant by making a request to the Rural Development State office or RBS National office.

Applications must be completed and submitted to the State Rural Development Office as soon as possible, but no later than June 27, 2003. Applications received after this date will not be considered. Electronic submission of proposals as an email attachment is strongly encouraged.

Each application must contain the information required under 7 CFR 4284.528(a) and (b)(1) (copies of which may be obtained from the Agency) in addition to the following information which is required under 7 CFR 4284.528(b)(2):

(1) A detailed Table of Contents containing page numbers for each component of the application.

(2) A project summary of 250 words or less on a separate page. This page must include the title of the project and the names of the primary project contacts and the applicant organization, followed by the summary. The summary should be self-contained and should describe the overall goals, relevance of the project, and a listing of all organizations involved in the project. The project summary should immediately follow the Table of Contents.

(3) A separate one-page information sheet which lists each of the eight evaluation criteria followed by the page numbers of all relevant material and documentation contained in the application which supports that criteria. This page should immediately follow the project summary.

(4) Description of the applicant's experience with similar projects, pursuant to 7 CFR 4284.528(a)(2)(vii). Applicants who have received funding under the Rural Cooperative Development Grant program in Fiscal Years 2001 or 2002 must provide a summation, not to exceed three pages, of progress and results for all projects funded fully or partially by the RCDG program in those years. This summary should include the status of cooperative businesses organized and all eligible grant purpose activities listed under 7 CFR 4284.515. The summary should immediately follow the page described above in item (3) documenting the location of evaluation criteria supporting material.

(5) A work plan that describes the specific tasks to be completed using grant and matching funds, pursuant to 7 CFR 4284.528(b)(1). The work plan should describe how customers will be identified (7 CFR 4284.528(a)(2)(vi)), key personnel to be involved (7 CFR 4284.528(a)(2)(vii) and the evaluation methods to be used to determine the success of specific tasks and overall objectives of Center operations (7 CFR 4284.528(a)(2)(xi)). A detailed budget must be submitted as part of the work plan and is required pursuant to 7 CFR 4284.528(a)(2)(iv). The budget must present a breakdown of the estimated costs associated with cooperative development activities as well as the operation of the Center and allocate these costs to each of the tasks to be performed in the work plan (7 CFR 4284.528(a)(2)(iii)). Matching funds as well as grant funds must be accounted for in the budget and estimate of total costs. The work plan, budget and estimate of costs, should not exceed 10 pages.

(6) The eight grant selection criteria in 7 CFR 4284.528(a)(2)(xiii)(G) must be addressed individually and in specific detail. This discussion should be in narrative form, should not exceed 40 pages, and should include all citations to supporting documentation. Do not include the referenced supporting documentation in the application package until and unless requested to do so by USDA.

Applications requesting Federal funds in excess of $350,000 will not be considered.

The National Office will score applications based on the grant selection criteria contained in 7 CFR part 4284, subpart F, and will select awardees subject to the availability of funds and the applicant's satisfactory submission of a formal application and related materials in accordance with subpart F. Entities submitting applications that are selected for awards will be invited by the Rural Development State office to submit all referenced supporting documentation and other required materials prior to September 1. As part of the award process, the State Office will review the referenced supporting documentation. Monitoring officials from the State Office must be satisfied as to the completeness and validity of any referenced documentation before grant funds will be obligated. It is anticipated that formal grant awards will be made by September 30, 2003.

In the event that the applicant is awarded a grant that is less than the amount requested, the applicant will be required to modify its application to conform to the reduced amount before execution of the grant agreement. The Agency reserves the right to reduce or de-obligate the award, if acceptable modifications are not submitted by the awardees within 15 working days from the date the application is returned to the applicant. Any modifications must be within the scope of the original application.

All applicants and grants must be in compliance with the requirements of 7 CFR parts 3015 and 3019.

Dated: May 5, 2003.
John Rosso,
Administrator, Rural Business-Cooperative Services.

List of Rural Development State Offices

Note: Telephone numbers shown are not toll free.

Alabama

State Director, USDA Rural Development, Sterling Center, Suite 601, 4121 Carmichael Road, Montgomery, AL 36106-3683, (334) 279-3400, steve.pelham@al.usda.gov.

Alaska

State Director, USDA Rural Development, 800 West Evergreen, Suite 201, Palmer, AK 99645, (907) 761-7705, nhayes@rdmail.rural.usda.gov.

Arizona

State Director, USDA Rural Development, 3003 North Central Avenue, Suite 900, Phoenix, AZ 85012, (602) 280-8700, eddie.browning@az.usda.gov

Arkansas

State Director, USDA Rural Development, 700 West Capitol Avenue, Room 3416, Little Rock, AR 72201-3225, (501) 301-3200, john.allen@ar.usda.gov.

California

State Director, USDA Rural Development, 430 G Street, Agency 4169, Davis, CA 95616, (530) 792-5800, paul.venosdel@ca.usda.gov.

Colorado

State Director, USDA Rural Development, 655 Parfet Street, Lakewood, CO 80215, (720) 544-2903, gigi.dennis@co.usda.gov.

Delaware-Maryland

State Director, USDA Rural Development, 4607 South DuPont Highway, Camden, DE 19934, (302) 697-4300, marlene.elliott@de.usda.gov.

Florida/Virgin Islands

State Director, USDA Rural Development, 4440 NW. 25th Place, Gainesville, FL 32606, (352) 338-3400, charles.clemons@fl.usda.gov.

Georgia

State Director, USDA Rural Development, Stephens Federal Building, 355 E. Hancock Avenue, Athens, GA 30601, (706) 546-2162, stone.workman@ga.usda.gov.

Hawaii

State Director, USDA Rural Development, Federal Building, Room 311, 154 Waianuenue Avenue, Hilo, HI 96720, (808) 933-8380, lorraine.shin@hi.usda.gov.

Idaho

State Director, USDA Rural Development, 9173 West Barnes Drive, Suite A1, Boise, ID 83709, (208) 378-5600, mike.field@id.usda.gov.

Illinois

State Director, USDA Rural Development, 2118 West Park Court, Suite A, Champaign, IL 61821, (217) 403-6200, Douglas.wilson@il.usda.gov.

Indiana

State Director, USDA Rural Development, 5975 Lakeside Boulevard, Indianapolis, IN 46278, (317) 290-3100, Robert.white@in.usda.gov.

Iowa

State Director, USDA Rural Development, Federal Building, Room 873, 210 Walnut Street, Des Moines, IA 50309, (515) 284-4663, nancy.orth@ia.usda.gov.

Kansas

State Director, USDA Rural Development, 1303 S.W. First American Place, Suite 100, Topeka, KS 66604, (785) 271-2700, chuck.banks@ks.usda.gov.

Kentucky

State Director, USDA Rural Development, 771 Corporate Drive, Suite 200, Lexington, KY 40503, (859) 224-7300, ken.slone@ky.usda.gov.

Louisiana

State Director, USDA Rural Development, 3727 Government Street, Alexandria, LA 71302, (318) 473-7920, Michael.taylor@la.usda.gov.

Maine

State Director, USDA Rural Development, 967 Illinois Avenue, Suite 4, Bangor, ME 04402, (207) 990-9106, m.aube@me.usda.gov.

Massachusetts/Rhode Island/Connecticut

State Director, USDA Rural Development, 451 West Street, Suite 2, Amherst, MA 01002, (413) 253-4300 david.tutle@ma.usda.gov.

Michigan

State Director, USDA Rural Development, 3001 Coolidge Road, Suite 200, East Lansing, MI 48823, (517) 324-5200, Harry.brumer@mi.usda.gov.

Minnesota

State Director, USDA Rural Development, 375 Jackson Street, Suite 410, St. Paul, MN 55101-1853, (651) 602-7800 steve.wenzel@mn.usda.gov.

Mississippi

State Director, USDA Rural Development, Federal Building, Suite 831, 100 West Capitol Street, Jackson, MS 39269, (601) 965-4316, nick.walters@ms.usda.gov.

Missouri

State Director, USDA Rural Development, 601 Business Loop 70 West, Parkade Center, Suite 235, Columbia, MO 65203, (573) 876-0976, greg.branum@mo.usda.gov.

Montana

State Director, USDA Rural Development, 900 Technology Blvd., Suite B, Bozeman, MT 59718, (406) 585-2580, tim.ryan@mt.usda.gov.

Nebraska

State Director, USDA Rural Development, Federal Building, Room 152, 100 Centennial Mall N, Lincoln, NE 68508, (402) 437-5551, jim.barr@ne.usda.gov.

Nevada

State Director, USDA Rural Development, 1390 South Curry Street, Carson City, NV 89703, (775) 887-1222 larry.smith@nv.usda.gov.

New Jersey

State Director, USDA Rural Development, 5th Floor North Tower, Suite 500, 8000 Midlantic Drive, Mount Laurel, NJ 08054, (856) 787-7700, Andrew.law@nj.usda.gov.

New Mexico

State Director, USDA Rural Development, 6200 Jefferson Street, NE, Room 255, Albuquerque, NM 87109, (505) 761-4950, jeff.condrey@nm.usda.gov.

New York

State Director, USDA Rural Development, The Galleries of Syracuse, 441 South Salina Street, Suite 357, Syracuse, NY 13202, (315) 477-6400, Patrick.brennan@ny.usda.gov.

North Carolina

State Director, USDA Rural Development State Office, 4405 Bland Road, Suite 260, Raleigh, NC 27609, (919) 873-2000, john.cooper@nc.usda.gov.

North Dakota

State Director, USDA Rural Development, Federal Building, Room 208, 220 East Rosser Avenue, Bismarck, ND 58502-1737, (701) 530-2037, jane.grant@nd.usda.gov.

Ohio

State Director, USDA Rural Development, Federal Building, Room 507, 200 North High Street, Columbus, OH 43215, (614) 255-2400, randall.hunt@oh.usda.gov.

Oklahoma

State Director, USDA Rural Development, 100 USDA, Suite 108, Stillwater, OK 74074, (405) 742-1000, brent.kisling@ok.usda.gov.

Oregon

State Director, USDA Rural Development, 101 SW Main Street, Suite 1410, Portland, OR 97204, (503) 414-3300, lynn.schoessler@or.usda.gov.

Pennsylvania

State Director, USDA Rural Development, One Credit Union Place, Suite 330, Harrisburg, PA 17110-2996, (717) 237-2299, byron.ross@pa.usda.gov.

Puerto Rico

State Director, USDA Rural Development State Office, 654 Munoz Rivera Avenue, IBM Plaza, Suite 601, Hato Rey, Puerto Rico 00918, (787) 766-5095, jose.otero@pr.usda.gov.

South Carolina

State Director, USDA Rural Development State Office, Strom Thurmond Federal Building, 1835 Assembly Street, Suite 1007, Columbia, SC 29201, (803) 765-5163 charles.sparks@sc.usda.gov.

South Dakota

State Director, USDA Rural Development, Federal Building, Room 210, 200 4th Street, SW., Huron, SD 57350, (605) 352-1100, lynn.jensen@sd.usda.gov.

Tennessee

State Director, USDA Rural Development, 3322 West End Avenue, Suite 300, Nashville, TN 37203, (615) 783-1300, peggy.rose@tn.usda.gov.

Texas

State Director, USDA Rural Development, Federal Building, Suite 102, 101 South Main, Temple, TX 76501, (254) 742-9700, bryan.daniel@tx.usda.gov.

Utah

State Director, USDA Rural Development, Wallace F. Bennett Federal Building, 125 South State Street, Room 4311, Salt Lake City, UT 84138, (801) 524-4320, jack.cox@ut.usda.gov.

Vermont/New Hampshire

State Director, USDA Rural Development, City Center, 3rd Floor, 89 Main Street, Montpelier, VT 05602, (802) 828-6000, marie.ferris@vt.usda.gov.

Virginia

State Director, USDA Rural Development, Culpeper Building, Suite 238, 1606 Santa Rosa Road, Richmond, VA 23229, (804) 287-1550, joe.newbill@va.usda.gov.

Washington

State Director, USDA Rural Development, 1835 Black Lake Blvd., SW, Suite B, Olympia, WA 98512, (360) 704-7740, misha.divens@wa.usda.gov.

West Virginia

State Director, USDA Rural Development, Federal Building, 75 High Street, Room 320, Morgantown, WV 26505, (304) 284-4860, jenny.phillips@wv.usda.gov.

Wisconsin

State Director, USDA Rural Development, 4949 Kirschling Court, Stevens Point, WI 54481, (715) 345-7600, frank.frassetto@wi.usda.gov.

Wyoming

State Director, USDA Rural Development, 100 East B Street, Room 1005, Casper, WY 82601, (307) 261-6300, john.cochran@wy.usda.gov.

[FR Doc. 03-11830 Filed 5-12-03; 8:45 am]

BILLING CODE 3410-XY-U